FEDERAL RETIREMENT THRIFT INVESTMENT BOARD

Sunshine Act Meeting; Notice

Time and Date: 9 a.m. (e.d.t.); February 21, 2006.

Place: 4th Floor Conference Room, 1250 H Street, NW., Washington, DC.

Status: Parts will be open to the public and parts closed to the public.

Matters To Be Considered:

Parts Open to the Public

1. Approval of the minutes of the January 17, 2006, Board member meeting.

2. Thrift Savings Plan activity report by the Executive Director.

3. Review of DOL audit reports for FY 2005:

Employee Benefits Security Administration Review of the Thrift Savings Plan Parallel Call Center at Spherix Incorporated, May 27, 2005 (updated with additional information received through August 17, 2005) and Executive Director's comments.

Employee Benefits Security Administration Review of the Thrift Savings Plan Withdrawals Process, dated August 24, 2005, and Executive Director's comments.

Employee Benefits Security Administration Post Implementation Review of the Thrift Savings Plan Mainframe Operations, dated October 7, 2005, and Executive Director's comments.

4. Investment policy.

Parts Closed to the Public

5. Internal personnel matters.

6. Procurement matters.

Contact Person For More Information: Thomas J. Trabucco, Director, Office of External Affairs, (202) 942-1640.

Dated: February 13, 2006.
Thomas K. Emswiler,
Acting General Counsel, Federal Retirement Thrift Investment Board.

[FR Doc. 06-1455 Filed 2-13-06; 1:07 pm]

BILLING CODE 6760-01-P